FEDERAL COMMUNICATIONS COMMISSION

47 CFR Part 20

[CC Docket No. 94-102; FCC 01-293]

Wireless E911 Service, Petition of City of Richardson, TX

Correction

Rule document 01-27605 was inadvertently published in the Proposed Rule section in the issue of Friday, November 2, 2001, appearing on page 55618. It should have appeared in the Rules and Regulations section.

[FR Doc. C1-27605 Filed 11-30-01; 8:45 am]

BILLING CODE 1505-01-D